NUCLEAR REGULATORY COMMISSION

10 CFR Parts 50 and 52

[NRC-2010-0288]

Design-Basis Hurricane and Hurricane Missiles for Nuclear Power Plants

AGENCY: Nuclear Regulatory Commission.

ACTION: Regulatory guide; issuance.

SUMMARY: The U.S. Nuclear Regulatory Commission (NRC or the Commission) is issuing a new regulatory guide, (RG) 1.221, “Design-Basis Hurricane and Hurricane Missiles for Nuclear Power Plants.” This regulatory guide provides licensees and applicants with new guidance that the staff of the NRC considers acceptable for use in selecting the design-basis hurricane and design-basis hurricane-generated missiles that a nuclear power plant should be designed to withstand to prevent undue risk to the health and safety of the public.

DATES: October 13, 2011.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this guide can be found at http://www.regulations.gov by searching on Docket ID NRC-2010-0288.

Regulatory guides are not copyrighted, and Commission approval is not required to reproduce them.

FOR FURTHER INFORMATION CONTACT: Robert Carpenter, U.S. Nuclear Regulatory Commission, Washington, DC 20555-0001, telephone: 301-251-7483 or e-mail Robert.Carpenter@nrc.gov.

SUPPLEMENTARY INFORMATION:

I. Introduction

The NRC is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

RG 1.221 was issued with a temporary identification as Draft Regulatory Guide, DG-1247. This regulatory guide provides licensees and applicants with new guidance that the staff of the NRC considers acceptable for use in selecting the design-basis hurricane and design-basis hurricane-generated missiles that a nuclear power plant should be designed to withstand to prevent undue risk to the health and safety of the public. This guidance applies to the contiguous United States but does not address the determination of the design-basis hurricane and hurricane missiles for sites located along the Pacific coast or in Alaska, Hawaii, or Puerto Rico; the NRC will evaluate such determinations on a case-by-case basis. This guide also does not identify the specific structures, systems, and components that should be designed to withstand the effects of the design-basis hurricane or should be protected from hurricane-generated missiles and remain functional. Nor does this guide address other externally generated hazards, such as aviation crashes, nearby accidental explosions resulting in blast overpressure levels and explosion-borne debris and missiles, and turbine missiles.

II. Further Information

In August 2010, DG-1247 was published with a public comment period of 60 days from the issuance of the guide. The public comment period closed on November 5, 2010. Electronic copies of Regulatory Guide 1.221 are available through the NRC's public Web site under “Regulatory Guides” at http://www.nrc.gov/reading-rm/doc-collections/ and through the NRC's Agencywide Documents Access and Management System (ADAMS) at http://www.nrc.gov/reading-rm/adams.html, under Accession No. ML110940300. The regulatory analysis may be found in ADAMS under Accession No. ML110940303. Staff's responses to public comments on DG-1247 are available under ML110940334.

Dated at Rockville, Maryland, this 3rd day of October 2011.
For the Nuclear Regulatory Commission.
Thomas H. Boyce,
Chief, Regulatory Guide Development Branch, Division of Engineering, Office of Nuclear Regulatory Research.

[FR Doc. 2011-26420 Filed 10-12-11; 8:45 am]

BILLING CODE 7590-01-P